DEPARTMENT OF TRANSPORTATION

Federal Railroad Administration

[Docket Number FRA-2024-0124]

Petition for Waiver of Compliance

Under part 211 of title 49 Code of Federal Regulations (CFR), this document provides the public notice that by letters received November 12, 2024, and December 11, 2024, the Salt Lake City Department of Public Services in conjunction with the City of North Salt Lake (Petitioners), petitioned the Federal Railroad Administration (FRA) for a waiver of compliance from certain provisions of the Federal railroad safety regulations contained at 49 CFR part 222 (Use of Locomotive Horns at Public Highway-Rail Grade Crossings).¹ FRA assigned the petition Docket Number FRA-2024-0124.

¹ The City of North Salt Lake initially requested relief under Docket Number FRA-2024-0115, and a Federal Register notice was published in that docket. See https://www.regulations.gov/docket/FRA-2024-0115. The Salt Lake City Department of Public Services submitted an initial request in this docket and then sent an additional letter that combined both requests into Docket Number FRA-2024-0124. Comments submitted to both of the notices in FRA-2024-0115 and FRA-2014-0124 will be considered.

Specifically, Petitioners request relief from § 222.35(b)(1), What are the minimum requirements for quiet zones?—Active grade crossing warning devices, which states that each public highway-rail grade crossing in a quiet zone “must be equipped, no later than the quiet zone implementation date, with active grade crossing warning devices comprising both flashing lights and gates which control traffic over the crossing.” Petitioners request a two-year waiver from the regulation “until the design and construction of [a] new signal mast and gate arms” can be completed near two railroad crossings (IDs 805664P and 805836V) that are within the Woods Cross Quiet Zone.

In support of its request, Petitioners state that the relief pertains only to industry tracks where no accidents or incidents have occurred since 1979, according to FRA's records. Additionally, Petitioners explain that the installation of gate arms and “other safety improvements” at both crossings are currently in process to bring each crossing into compliance.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by March 17, 2025 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-00970 Filed 1-15-25; 8:45 am]

BILLING CODE 4910-06-P